AGENCY FOR INTERNATIONAL DEVELOPMENT

Notice of Public Information Collections Being Reviewed by the U.S. Agency for International Development: Comments Requested

SUMMARY: U.S. Agency for International Development (USAID)—is making efforts to reduce the paperwork burden. USAID invites the general public and other Federal agencies to take this opportunity to comment on the following proposed and/or continuing information collections, as required by the Paperwork Reduction Act for 1995, Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before October 6, 2009.

FOR FURTHER INFORMATION CONTACT: Beverly Johnson, Bureau for Management. Office of Administrative Services, Information and Records Division, U.S. Agency for International Development, Room 2.07-106, RRB, Washington, DC 20523, (202) 712-1365 or via e-mail bjohnson@usaid.gov.

ADDRESSES: Send comments via e-mail at sgetson@usaid.gov or mail comments to: Stephanie Getson, Bureau for Democracy, Conflict and Humanitarian Assistance, Office of Civilian Response (DCHA/OCR), United States Agency for International Development, Ronald Reagan Building, 1300 Pennsylvania Avenue, NW., Washington, DC 20523, (202) 712-1372.

SUPPLEMENTARY INFORMATION: OMB No.: OMB 0412-0580.

Form No.: N/A.

Title: OCR Deployment Tracking System (DTS).

Type of Review: Renewal of Information Collection.

Purpose: The purpose of this information collection will be used to (a) Track operations of the hiring process; (b) monitor the deployment validation process; (c) identify and plan deployment teams; (d) assess and manage the deployment and logistics of team members; (e) notify, locate and mobilize individuals in a deployed area, as necessary during emergency or other threatening situation; (f) notify the designated emergency contact in case of a medical or other emergency involving an individual; (g) manage orientation, annual, specialized and predeployment training in preparation for projected deployments.

Annual Reporting Burden:

Respondents: 250.

Total annual responses: 1000.

Total annual hours requested: 375 hours.

Dated: July 28, 2009.
Cynthia Staples,
Acting Chief, Information and Records Division, Office of Administrative Services, Bureau for Management.

[FR Doc. E9-18618 Filed 8-6-09; 8:45 am]

BILLING CODE 6116-01-M